FEDERAL RETIREMENT THRIFT INVESTMENT BOARD

Employee Thrift Advisory Council

Time and Date: 9 a.m. (Eastern Time), June 30, 2008.

Place: 2nd Floor, Training Room, 1250 H Street, NW., Washington, DC 20005.

Status: Open.

Matters to be Considered:

1. Approval of the minutes of the December 19, 2007 meeting.

2. Report of the Executive Director on Thrift Savings Plan Status.

3. Discussion Draft Legislation.

4. Other proposals.

5. New business.

FOR FURTHER INFORMATION CONTACT: Thomas K. Emswiler, Committee Management Officer, (202) 942-1660.

Dated: June 10, 2008.
Thomas K. Emswiler,
General Counsel, Federal Retirement Thrift Investment Board.

[FR Doc. 08-1353 Filed 6-10-08; 1:59 pm]

BILLING CODE 6760-01-P